DEPARTMENT OF LABOR

Occupational Safety and Health Administration

Advisory Committee on Construction Safety and Health; Notice of Open Meeting

AGENCY: Occupational Safety and Health Administration (OSHA), Labor.

ACTION: Notice of a meeting of the Advisory Committee on Construction Safety and Health (ACCSH).

SUMMARY: OSHA is notifying the public that ACCSH will meet March 15-16, 2001, at the Frances Perkins Building, U.S. Department of Labor, 200 Constitution Ave., NW., Washington, DC. This meeting is open to the public.

DATES, TIMES, LOCATION: ACCSH will meet 8:30 a.m. to 5 p.m., Thursday, March 15 and 9 a.m. to Noon, Friday, March 16 in rooms N-3437 A, B, C & D of the Frances Perkins Building. ACCSH work groups will meet March 13-14 in the Frances Perkins Building. For an updated schedule of activities please refer to the ACCSH Web Page located at OSHA's Web site at http://www.osha.gov, or contact Jim Boom in OSHA's Directorate of Construction at (202) 693-1839.

FOR FURTHER INFORMATION CONTACT: Veneta Chatmon, OSHA Office of Public Affairs, Room N-3647, 200 Constitution Ave., NW., Washington, DC 20210, telephone (202) 693-1999.

SUPPLEMENTARY INFORMATION: An official record of the meeting will be available for public inspection at the OSHA Docket Office, Room N-2625, at the address above, telephone (202)-693-2350. All ACCSH meetings and those of its work groups are open to the public. Individuals needing special accommodation should contact Veneta Chatmon no later than March 5, 2001, at the above address.

The agenda items for this meeting include:

• Introduction of new ACCSH members

• Remarks by the Acting Assistant Secretary for the Occupational Safety and Health Administration, R. Davis Layne

• ACCSH Work Group updates

• Update on past ACCSH business

• Directorate of Construction report

Work Group Meeting Schedule

The following work groups will meet in the Francis Perkins Building:

• Subpart N—Cranes—9 a.m. to 4:00 p.m., Tuesday, March 13 in room N-5437 A&B.

• Sanitation—9 a.m. to Noon, Wednesday, March 14 in room N-5437 A.

• OSHA 10 Hour Training—10 a.m. to Noon, Wednesday, March 14 in room N-5437 B.

• Hexavalent Chromium—1:30 to 4 p.m., Wednesday, March 14 in room N-5437 A.

• Noise in Construction—1 to 5 p.m., Wednesday, March 14 in room N-5437 B.

For up-to-date information on ACCSH work groups and scheduling please refer to the OSHA Web site at http://www.osha.gov, or call Jim Boom in OSHA's Directorate of Construction at (202) 693-1839.

Authority: R. Davis Layne, Acting Assistant Secretary of Labor for Occupational Safety and Health, directed the preparation of this notice under the authority granted by section 7 of the Occupational Safety and Health Act of 1970 (29 U.S.C. 656) section 107 of the Contract Work Hours and Safety Standards Act (Construction Safety Act) (40 U.S.C. 333), and Secretary of Labor's Order No. 6-96 (62 FR 181).

Signed at Washington, DC on February 26, 2001.
R. Davis Layne,
Acting Assistant Secretary of Labor.

[FR Doc. 01-5078 Filed 3-1-01; 8:45 am]

BILLING CODE 4510-26-M